DEPARTMENT OF HEALTH AND HUMAN SERVICES

Health Resources and Services Administration

Early Hearing Detection and Intervention (EHDI) Program

AGENCY: Health Resources and Services Administration (HRSA), Department of Health and Human Services.

ACTION: Notice of a HRSA-initiated competitive supplement for the EHDI Program.

SUMMARY: HRSA will provide supplemental award funds for up to 20 Early Hearing Detection and Intervention Program recipients of $75,000 each with a period of performance of 12 months to develop the necessary partnerships, assessments, evaluations, and other activities at the state and local levels to ensure that all children identified as deaf or hard of hearing (DHH) and their families receive the services they need to meet language acquisition and other developmental milestones by age 3.

FOR FURTHER INFORMATION CONTACT: Dana Simms, Project Officer, dsimms@hrsa.gov or 301-443-1623.

SUPPLEMENTARY INFORMATION:

Intended Recipient(s) of the Award: Up to 20 EHDI grantees of those listed in Table 1 who demonstrate readiness as articulated in review criteria on methodology, work plan, and budget to address language acquisition and other developmental milestones at age 3 for children identified as DHH.

Amount of Competitive Awards: Up to 20 awards at $75,000 ($1.5 million total).

Project Period: April 1, 2023-March 31, 2024.

Assistance Listing (CFDA) Number: 93.251.

Award Instrument: Supplement.

Authority: Public Health Service Act, Title III, Section 399M(a) (42 U.S.C. 280g-1(a)).

Purpose/Justification: The Consolidated Appropriations Act, 2023 (Pub. L. 117-328) provided HRSA's Maternal and Child Health Bureau with an additional $1 million for the EHDI program. The EHDI program currently funds 59 states and territories to support comprehensive systems of care so families with newborns, infants, and young children up to 3 years of age receive appropriate and timely services including screening, diagnosis, and early intervention. When children are identified as DHH early and they are provided with timely and appropriate intervention services, they have better vocabulary development, expressive language, and social-emotional development than children identified later. EHDI programs will use this supplemental support for 1 year to develop the necessary partnerships, assessments, evaluations, and other activities at the state and local levels to ensure that all children identified as DHH and their families receive the services they need to meet language acquisition and other developmental milestones by age 3. By September 2023, HRSA's Maternal and Child Health Bureau intends to provide a 1-year supplement for $75,000 for up to 20 existing grantees.

Table 1—Current EHDI Recipients
Grant # | Award recipient name | State/territory
H61MC00015 | Alaska Department of Health and Social Services | AK
H61MC00054 | Alabama State Department of Public Health | AL
H61MC00076 | Arkansas Department of Health | AR
H61MC33903 | Department of Health American Samoa | AS
H61MC30765 | EAR Foundation of Arizona | AZ
H61MC33904 | NorCal for Deaf and Hard of Hearing | CA
H61MC33905 | State of Colorado Department of Human Services | CO
H61MC00088 | State of Connecticut | CT
H61MC00060 | District of Columbia Department of Health | DC
H61MC23639 | Delaware Department of Health & Social Services | DE
H61MC00086 | Florida State Department of Health | FL
H61MC10346 | Federated States of Micronesia | FM
H61MC22706 | Georgia Department of Public Health | GA
H61MC24883 | University of Guam | GU
H61MC00038 | State of Hawaii Department of Health | HI
H61MC24884 | University of Hawaii Systems | HI
H61MC26835 | Iowa Department of Public Health | IA
H61MC00010 | Idaho State Department of Health and Welfare | ID
H61MC04498 | The Illinois Department of Health | IL
H61MC23640 | Indiana State Department of Health | IN
H61MC00049 | Kansas State Department of Health and Environment | KS
H61MC00033 | Community For Children with Special Healthcare Needs | KY
H61MC00014 | Louisiana State Department of Health and Hospitals | LA
H61MC00002 | Massachusetts Department of Public Health | MA
H61MC00081 | Maryland Department of Health and Mental Hygiene | MD
H61MC30766 | Maine Educational Center for the Deaf & Hard of Hearing | ME
H61MC00056 | Michigan Department of Community Health | MI
H61MC00035 | Minnesota Department of Health | MN
H61MC00052 | Mississippi State Department of Health | MS
H61MC00071 | Missouri Department of Health | MO
H61MC30523 | Commonwealth Healthcare Corporation | MP
H61MC00053 | Montana State Department of Public Health and Human Services | MT
H61MC00043 | North Carolina Department of Health & Human Services | NC
H61MC00028 | Minot State University | ND
H61MC00065 | Nebraska State Department of Health | NE
H61MC00034 | New Hampshire Department of Health | NH
H61MC04397 | New Mexico State Department of Health | NM
H61MC23641 | New Jersey Department of Health and Senior Services | NJ
H61MC25010 | Health and Human Services/Nevada Department of Health | NV
H61MC00005 | Health Research Inc. | NY
H61MC00029 | State of Ohio Department of Health | OH
H61MC00051 | Oklahoma State Department of Health | OK
H61MC00057 | Oregon State Department of Human Services | OR
H61MC24882 | Commonwealth of Pennsylvania | PA
H61MC00050 | Puerto Rico Department of Health | PR
H61MC05788 | Republic of Palau | PW
H61MC00009 | State of Rhode Island Department of Health | RI
H61MC00040 | State of South Carolina | SC
H61MC33906 | University of South Dakota | SD
H61MC00066 | Tennessee State Department of Health | TN
H61MC26836 | Texas Department of State Health Services | TX
H61MC00042 | Utah Department of Health | UT
H61MC00046 | Virginia State Department of Health | VA
H61MC23642 | U.S. Virgin Islands Department of Health | VI
H61MC09029 | Vermont State Agency for Human Services | VT
H61MC00084 | Washington State Department of Health | WA
H61MC00024 | Wisconsin Department of Health | WI
H61MC23643 | West Virginia Department of Health and Human Resources | WV
H61MC00075 | Wyoming State Department of Health | WY

Carole Johnson,
Administrator.

[FR Doc. 2023-11592 Filed 5-31-23; 8:45 am]

BILLING CODE 4165-15-P